FEDERAL COMMUNICATIONS COMMISSION

47 CFR Part 64

[CG Docket Nos. 04-53; FCC 04-194; DA 05-331]

Rules and Regulations Implementing the Controlling the Assault of Non-Solicited Pornography and Marketing Act of 2003

AGENCY: Federal Communications Commission.

ACTION: Final rule; announcement of list of wireless domain names now available to public.

SUMMARY: In this document the Consumer & Governmental Affairs Bureau, on delegated authority from the Federal Communications Commission (Commission), announces the publication of the list of wireless domain names, in accordance with an order previously approved by the Commission and information collections requirements previously approved by the Office of Management and Budget, both of which were already published in the Federal Register.

DATES: Persons or entities sending Mobile Service Commercial Messages without prior express authorization from individual wireless subscribers must comply by March 10, 2005.

ADDRESSES: Federal Communications Commission, 445 12th Street, SW., Washington, DC 20554.

FOR FURTHER INFORMATION CONTACT: Kelli Farmer, Consumer Policy Division, Consumer & Governmental Affairs Bureau at (202) 418-2512 (voice), or e-mail Kelli.Farmer@fcc.gov.

SUPPLEMENTARY INFORMATION: On August 12, 2004, the Commission released an Order, In the Matter of Rules and Regulations Implementing the Controlling the Assault of Non-Solicited Pornography and Marketing Act of 2003, FCC 04-194, published at 69 FR 55765, September 16, 2004 and most of the rules were effective October 18, 2004. On December 15, 2003, OMB approved the remaining rules, 47 CFR 64.3100(a)(4), (d), (e) and (f), for three years. OMB Control No. 3060-1078. On December 17, 2004, the Consumer & Governmental Affairs Bureau issued a notice of the effective date of the rules, gave a deadline for Commercial Mobile Radio Service (CMRS) carriers to supply the required information, and stated that the Commission would issue a second public notice announcing the date on which senders and the general public will have access to the list, 69 FR 77141, December 27, 2004. The notice stated further, as did the Order itself that senders would then have an additional thirty (30) days from the date that the list becomes publicly available to comply with the rules.

Synopsis

On February 7, 2005, the Federal Communications Commission (Commission) first made available to the public a list of wireless domain names that are used to transmit electronic messages to subscribers of commercial mobile service, such as cellular service, Personal Communications Service (PCS) and enhanced Specialized Mobile Radio Services (SMRS). This list is published in accordance with the Commission's Order implementing the Controlling the Assault of Non-Solicited Pornography and Marketing Act of 2003, or the CAN-SPAM Act (Order).

The Order adopted rules to protect wireless subscribers from unwanted commercial electronic mail messages. Specifically, the rules prohibit initiating or sending most electronic commercial messages to any address associated with subscription to wireless service, unless the individual addressee has given the sender express prior authorization. To assist senders of commercial messages in identifying the addresses that belong to wireless subscribers, the Order required first that wireless service providers supply the FCC with the names of the relevant mail domain names.

The list of wireless mail domain names can be seen and downloaded in several formats from http://www.fcc.gov/cgb/policy by clicking on “Download Registered Domain Names.” The list includes the portions of electronic mail addresses that can be found after the “@” symbol in wireless subscriber addresses, used for sending both text messages and e-mail. Some CMRS providers have supplied full mail domain names, which take up all the characters to the right of the “@” symbol in such addresses, while others have listed subdomain names used for wireless service. (For example, if a wireless subscriber's e-mail address was JohnDoe@mobile.fcceg.gov, the carrier could have registered “mobile.fcceg.gov.” Alternatively, the carrier could have registered “fcceg.gov,” as long as all such subscriber addresses including that domain name would be for commercial mobile service. Hence, the prohibition applies for all subscriber addresses that include any listed subdomain or domain name. For example, a listing of “fcceg.gov” would cover all subscribers with “fcceg.gov” in their electronic addresses, including JohnDoe@fcceg.gov, JohnDoe@mobile.fcceg.gov and JohnDoe@sms.fcceg.gov.) The prohibition discussed below applies to all electronic addresses that include the mail domain names in this list, whether they be the full mail domain name used in the address or just the portion of the name furthest to the right.

As explained in the Order, senders of mobile service commercial messages (MSCMs) have thirty (30) days from the date the list became publicly available to comply with the prohibition on initiating MSCMs to any electronic mail address that references any domain names on the list, unless they have received express prior authorization or the message falls under any other exceptions to the rule. A commercial message is presumed to be an MSCM if it is sent or directed to any address containing a reference, whether or not displayed, to an Internet domain listed on the FCC's wireless domain names list. We remind senders that any person or entity that initiates or sends a message to an address that they otherwise know to be associated with a wireless subscription will be in violation of our rules, regardless of how long the domain name has been on the published list We note also that the prohibition applies only to “commercial electronic mail messages” as they are defined in our rules, not to “transactional or relationship” messages, such as those sent regarding product safety or security information, notification to facilitate a commercial transaction, and notification about changes in terms, features, or the customer's account status.

The official list, which includes the date that each mail domain name was added to the list, will be updated regularly. Those members of the public who rely upon the list to identify wireless domain names are urged to check the list monthly. A paper version will be available at the Commission's headquarters in Washington, DC. Any party who cannot access the list electronically and needs to view a paper version should contact the Commission's Consumer & Governmental Affairs Bureau. Anyone that believes a domain name has been omitted or added in error should contact the Bureau as well.

On December 17, 2004, the Commission issued a public notice announcing that Commercial Mobile Radio Service (CMRS) carriers were required to submit their wireless domain names used for the applicable wireless messaging services to the Commission for inclusion in a wireless domain names database. The deadline for initial submissions was January 21, 2005. (We note that it was recently brought to our attention that this earlier public notice, 69 FR 77141, December 27, 2004, contained a typographical error in that it listed the January 21, 2005 deadline as January 21, 2004. While we do not believe that it caused any confusion for carriers, we ask that any carrier that experienced difficulty complying with the rules because of the error contact the Policy Division immediately). Further, CMRS carriers are responsible for the continuing accuracy and completeness of information furnished for the wireless domain names list.

As provided in 47 CFR 64.3100, no person or entity may initiate any mobile service commercial message unless:

(1) That person or entity has the express prior authorization of the addressee as described in 47 CFR 64.3100(d); or

(2) That person or entity is forwarding that message to its own address; or

(3) That person or entity is forwarding to an address provided that (i) the original sender has not provided any payment, consideration or other inducement to that person or entity and (ii) that message does not advertise or promote a product, service, or Internet Web site of the person or entity forwarding the message; or

(4) The address to which that message is sent or directed does not include a reference to a domain name that has been posted on the FCC's wireless domain names list for a period of at least 30 days before that message was initiated, provided that the person or entity does not knowingly initiate a mobile service commercial message.

Federal Communications Commission.
Marlene H. Dortch,
Secretary.

[FR Doc. 05-4344 Filed 3-4-05; 8:45 am]

BILLING CODE 6712-01-P